DEPARTMENT OF THE INTERIOR

Bureau of Indian Affairs

Western Shoshone Application Form

AGENCY: Bureau of Indian Affairs, Interior.

ACTION: Notice of proposed renewal for information collection.

SUMMARY: The Bureau of Indian Affairs (BIA) is seeking comments from the public on the renewal of a tribal enrollment information collection as required by the Paperwork Reduction Act. The information collected under OMB Control Number 1076-0165 will be used to establish that the applicants meet the eligibility requirements to share in the Western Shoshone judgment fund distribution authorized by the Act of July 7, 2004, Public Law 108-270.

DATES: Submit comments on or before April 28, 2008.

ADDRESSES: Please submit a copy of comments to Iris Drew, Office of Indian Services, Bureau of Indian Affairs, 1001 Indian School Road, NW., Albuquerque, New Mexico 87104. Fax number: (505) 563-3060.

FOR FURTHER INFORMATION CONTACT: Ms. Iris Drew, Tribal Relations Specialist, Tribal Government Services, (505) 563-3530.

SUPPLEMENTARY INFORMATION: This collection was originally approved and assigned OMB Control No. 1076-0165 when it was submitted with a proposed rulemaking, 25 CFR part 61, which was published in the Federal Register on May 19, 2005, 70 FR 28859. The final rule was published in the Federal Register on March 5, 2007, 72 FR 9836.

Request for Comments:

We are requesting your comments about the proposed collection to evaluate:

(a) The necessity of the information collection for proper performance of the Bureau functions, including its practical utility;

(b) The accuracy of the burden hours, including the validity of the methodology used and assumptions made;

(c) The quality, utility and clarity of the information to be collected; and

(d) The ways we could minimize the burden of the collection of the information on the respondents, such as with automated collection techniques or other forms of information technology.

The public is advised that an agency may not conduct or sponsor, and a person is not required to respond to a collection of information unless it has a valid OMB control number. For example this collection is listed by OMB as Control No. 1076-0165, and it expires June 30, 2008. The response is voluntary to obtain or retain a benefit.

Please submit your comments to the person listed in the ADDRESSES section. Please note that comments, names and addresses of commentators are open for public review during the hours of 8 a.m. to 3 p.m., MST, Monday through Friday except for legal holidays. If you wish your name and address withheld, you must state this prominently at the beginning of your comments. We will honor your request to the extent allowable by law.

Information Collection Abstract

OMB Control Number: 1076-0165.

Type of Review: Renewal.

Title: Application to Share in the Western Shoshone Funds as a Lineal Descendant of the Western Shoshone Identifiable group pursuant to the Act of July 7, 2004, Public Law 108-270.

Brief Description of Collection: The information collected is mandatory for individuals to participate in the per capita distribution pursuant to the Act of July 7, 2004, Public Law 108-270. Subsection 3(b) of Public Law 108-270, requires the Secretary of the Interior to prepare a Western Shoshone judgment roll consisting of all individuals who—(a) have at least ¼ degree of Western Shoshone blood; (b) are citizens of the United States; and (c) are living on July 7, 2004.

Ineligible Individuals: Any individual that is certified by the Secretary to be eligible to receive a per capita payment from any other judgment funds based on an aboriginal land claim awarded by the Indian Claims Commission, the United States Claims Court, or the United States Court of Federal claims, that was appropriated on or before July 7, 2004, will not be listed on the judgment roll.

Respondents: Individual Indians able to prove lineal descendancy of the Western Shoshone Identifiable group pursuant to the Act of July 7, 2004, Public Law 108-270.

Number of Respondents: We have received approximately 7,000 applications since the application period opened in April 2007. We expect to receive an additional 6,000 applications over a three-year period.

Frequency of Response: Each applicant will be required to file only once.

Estimated Time per Response: The burden of preparing and submitting an application to share in the judgment fund distribution will vary widely, depending upon the applicant's age and family history, from 1 hour for older individuals to 20 hours for younger or nonenrolled individuals. We are using 18 hours as an average per individual response.

Total Annual Burden to Respondents: 2,000 requests per year at 18 hours per response, for a total reporting and recordkeeping annual burden of 36,000 hours. Additional costs per applicant: estimated to average $23.75 per applicant for an annual total of $47,500.

Total Annual Cost to Respondents (salary and documents): $82,833.33.

Dated: February 14, 2008.
Carl J. Artman,
Assistant Secretary, Indian Affairs.

[FR Doc. E8-3644 Filed 2-26-08; 8:45 am]

BILLING CODE 4310-4J-P